DEPARTMENT OF STATE

[Public Notice 7982]

Notice of Extension of Public Comment Period for the Proposed New International Trade Crossing (NITC) Presidential Permit Application

In response to requests, the Department of State is extending the public comment period for the New International Trade Crossing (NITC) Presidential Permit application. The Department of State had originally set the end of the comment period at August 9, 2012. The Department has decided, in response to the requests noted above, to extend the comment period until September 10, 2012. Interested parties may submit written comments via email to NITCComments@state.gov.

The original notice of receipt of the Presidential Permit application was published by the Department of State in the Federal Register on Wednesday, July 11, 2012. [Public Notice 7951]. The Presidential permit application can be viewed online at http://www.state.gov/p/wha/rt/permit/.

Dated: July 10, 2012.
Elizabeth L. Martinez,
Director, Office of Canadian Affairs, Bureau of Western Hemisphere Affairs, Department of State.

[FR Doc. 2012-20162 Filed 8-15-12; 8:45 am]

BILLING CODE 4710-29-P